SECURITIES AND EXCHANGE COMMISSION

[Release No. 34-82425; File No. SR-Phlx-2017-74]

Self-Regulatory Organizations; Nasdaq PHLX LLC; Notice of Withdrawal of a Proposed Rule Change To Introduce the Intellicator Analytic Tool

January 2, 2018.

On September 20, 2017, Nasdaq PHLX LLC (“Phlx” or “Exchange”) filed with the Securities and Exchange Commission (“Commission”), pursuant to Section 19(b)(1) of the Securities Exchange Act of 1934 (“Act”) ¹ and Rule 19b-4 thereunder,² a proposed rule change to introduce the Intellicator Analytic Tool. The proposed rule change was published for comment in the Federal Register on October 4, 2017.³

¹ 15 U.S.C. 78s(b)(1).

² 17 CFR 240.19b-4.

³ See Securities Exchange Act Release No. 81754 (Sept. 28, 2017), 82 FR 46319.

On November 15, 2017, pursuant to Section 19(b)(2) of the Act,⁴ the Commission designated a longer period within which to approve the proposed rule change, disapprove the proposed rule change, or institute proceedings to determine whether to approve or disapprove the proposed rule change.⁵ The Commission received three comment letters on the proposed rule change and a response from the Exchange.⁶

⁴ See 15 U.S.C. 78s(b)(2).

⁵ See Securities Exchange Act Release No. 82085, 82 FR 55459 (Nov. 21, 2017).

⁶ See Letter from Ellen Greene, Managing Director, Financial Services Operations, Securities Industry and Financial Markets Association, to Brent J. Fields, Secretary, Commission, dated November 8, 2017; Letter from Tyler Neville, Trader, dated November 21, 2017; Letter from Joanna Mallers, Secretary, FIA Principal Traders Group, to Brent J. Fields, Secretary, Commission, dated December 19, 2017; and Letter from Joan C. Conley, Senior Vice President & Corporate Secretary, Nasdaq, to Brent J. Fields, Secretary, Commission, dated December 22, 2017, available at https://www.sec.gov/comments/sr-phlx-2017-74/phlx201774.htm.

On December 22, 2017, the Exchange withdrew the proposed rule change (SR-PHLX-2017-74).

For the Commission, by the Division of Trading and Markets, pursuant to delegated authority.⁷
⁷ 17 CFR 200.30-3(a)(31).
Eduardo A. Aleman,
Assistant Secretary.

[FR Doc. 2018-00073 Filed 1-5-18; 8:45 am]

BILLING CODE 8011-01-P